COMMITTEE FOR PURCHASE FROM PEOPLE WHO ARE BLIND OR SEVERELY DISABLED

Procurement List Proposed Addition; Correction

AGENCY: Committee for Purchase From People Who Are Blind or Severely Disabled.

ACTION: Proposed addition to procurement list.

SUMMARY: In the document appearing on page 51005, FR Doc. 01-25042, in the issue of October 5, 2001, in the third column the Committee published a notice of proposed addition to the Procurement List of, among other things, Shirt, Sleeping, 8415-00-890-2099, 8415-00-890-2101, 8415-00-890-2102 and 8415-00-890-2013. This notice is amended to include 8415-00-890-2100 and 8415-00-935-6855, which was omitted from original notice, and to correct the omission that this proposed addition is for the Remaining 50% of the Governments Requirement.

Comments Must be Received on or Before: November 19, 2001.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions. If the Committee approves the proposed addition, the entities of the Federal Government identified in this notice for each commodity will be required to procure the commodity listed below from nonprofit agencies employing persons who are blind or have other severe disabilities.

I certify that the following action will not have a significant impact on a substantial number of small entities. The major factors considered for this certification were:

1. The action will not result in any additional reporting, recordkeeping or other compliance requirements for small entities other than the small organizations that will furnish the commodity to the Government.

2. The action will result in authorizing small entities to furnish the commodity to the Government.

3. There are no known regulatory alternatives which would accomplish the objectives of the Javits-Wagner-O'Day Act (41 U.S.C. 46—48c) in connection with the commodity proposed for addition to the Procurement List. Comments on this certification are invited. Commenters should identify the statement(s) underlying the certification on which they are providing additional information.

The following commodity is proposed for addition to Procurement List for production by the nonprofit agencies listed:

Commodity

Shirt, Sleeping

8415-00-890-2099

8415-00-890-2100

8415-00-890-2101

8415-00-890-2102

8415-00-890-2203

8515-00-935-6855

(Remaining 50% of the Government Requirement)

NPA: BOST Human Development Services Fort Smith, Arkansas.

Government Agency: Defense Supply Center Philadelphia.

Sheryl D. Kennerly,
Director, Information Management.

[FR Doc. 01-26402 Filed 10-18-01; 8:45 am]

BILLING CODE 6353-01-P